NATIONAL CREDIT UNION ADMINISTRATION

Sunshine Act; Notice of Agency Meeting

TIME AND DATE: 10 a.m., Thursday, May 19, 2011.

PLACE: Board Room, 7th Floor, Room 7047, 1775 Duke Street (All visitors must use Diagonal Road Entrance), Alexandria, VA 22314-3428.

STATUS: Open.

MATTERS TO BE CONSIDERED: 1. Final Rule—Part 740 of NCUA's Rules and Regulations, Accuracy of Advertising and Notice of Insured Status.

2. Final Rule—Part 745 of NCUA's Rules and Regulations, Share Insurance and Appendix.

3. Final Rule—Part 750 of NCUA's Rules and Regulations, Golden Parachute and Indemnification Payments.

4. Proposed Rule—Part 705 of NCUA's Rules and Regulations, Community Development Revolving Loan Fund.

5. Voluntary Prepayment of Stabilization Fund Assessment.

6. Insurance Fund Report.

RECESS: 11:15 a.m.

TIME AND DATE: 11:30 a.m., Thursday, May 19, 2011.

PLACE: Board Room, 7th Floor, Room 7047, 1775 Duke Street, Alexandria, VA 22314-3428.

STATUS: Closed.

MATTERS TO BE CONSIDERED: 1. Insurance Appeal. Closed pursuant to exemption (6).

2. Personnel (2). Closed pursuant to exemption (2).

3. Consideration of Supervisory Activity. Closed pursuant to some or all of the following: Exemptions (8), (9)(A)(ii) and 9(B).

FOR FURTHER INFORMATION CONTACT: Mary Rupp, Secretary of the Board, Telephone: 703-518-6304.

Mary Rupp,
Board Secretary.

[FR Doc. 2011-12070 Filed 5-12-11; 4:15 pm]

BILLING CODE 7535-01-P